DEPARTMENT OF COMMERCE

National Institute of Standards and Technology

National Fire Codes: Request for Proposals for Revision of Codes and Standards

AGENCY: National Institute of Standards and Technology, Commerce.

ACTION: Notice.

SUMMARY: The National Fire Protection Association (NFPA) proposes to revise some of its fire safety codes and standards, and requests proposals from the public to amend existing, or begin the process of developing new, NFPA fire safety codes and standards. The purpose of this request is to increase public participation in the system used by NFPA to develop its codes and standards. The publication of this notice of request for proposals by the National Institute of Standards and Technology (NIST) on behalf of NFPA is being undertaken as a public service; NIST does not necessarily endorse, approve, or recommend any of the standards referenced in the notice.

DATES: Interested persons may submit proposals on or before the dates listed with the standards.

ADDRESSES: Casey C. Grant, Secretary, Standards Council, NFPA, 1 Batterymarch Park, Quincy, Massachusetts 02269-9101.

FOR FURTHER INFORMATION CONTACT: Casey C. Grant, Secretary, Standards Council, at above address, (617) 770-3000.

SUPPLEMENTARY INFORMATION:

Background

The National Fire Protection Association (NFPA) develops building, fire, and electrical safety codes and standards. Federal agencies frequently use these codes and standards as the basis for developing federal regulations concerning fire safety. Often, the Office of the Federal Register approves the incorporation by reference of these standards under 5 U.S.C. 552(a) and 1 CFR part 51.

Request for Proposals

Interested persons may submit proposals, supported by written data, views, or arguments to Casey C. Grant, Secretary, Standards Council, NFPA, 1 Batterymarch Park, Quincy, Massachusetts 02269-9101. Proposals should be submitted on forms available from the NFPA Codes and Standards Administration Office or on NFPA's Web site at www.nfpa.org.

Each person must include his or her name and address, identify the document, and give reasons for the proposal. Proposals received before or by 5 p.m. local time on the closing date indicated would be acted on by the Committee. The NFPA will consider any proposal that it receives on or before the date listed with the code or standard.

At a later date, each NFPA Technical Committee will issue a report, which will include a copy of written proposals that have been received, and an account of their disposition of each proposal by the NFPA Committee as the Report on Proposals. Each person who has submitted a written proposal will receive a copy of the report.

Document-edition | Document title | Proposal closing date
NFPA 1-2003 | Uniform Fire Code | 1/5/2004
NFPA 10-2002 | Standard for Portable Fire Extinguishers | 6/25/2004
NFPA 13-2002 | Standard for the Installation of Sprinkler Systems | 11/5/2004
NFPA 13D-2002 | Standard for the Installation of Sprinkler Systems in One- and Two-Family Dwellings and Manufactured Homes | 11/5/2004
NFPA 13R-2002 | Standard for the Installation of Sprinkler Systems in Residential Occupancies up to and Including Four Stories in Height | 11/5/2004
NFPA 15-2001 | Standard for Water Spray Fixed Systems for Fire Protection | 12/31/2004
NFPA 18-1995 | Standard on Wetting Agents | 1/5/2004
NFPA 24-2002 | Standard for the Installation of Private Fire Service Mains and Their Appurtenances | 11/5/2004
NFPA 52-2002 | Compressed Natural Gas (CNG) Vehicular Fuel Systems Code | 1/5/2004
NFPA 54-2002 | National Fuel Gas Code | 1/5/2004
NFPA 57-2002 | Liquefied Natural Gas (LNG) Vehicular Fuel Systems Code | 1/5/2004
NFPA 72-2002 | National Fire Alarm Code® | 11/5/2004
NFPA 73-2000 | Electrical Inspection Code for Existing Dwellings | 1/5/2004
NFPA 79-2002 | Electrical Standard for Industrial Machinery | 6/25/2004
NFPA 80-1999 | Standard for Fire Doors and Fire Windows | 1/5/2004
NFPA 90A-2002 | Standard for the Installation of Air-Conditioning and Ventilating Systems | 1/5/2004
NFPA 90B-2002 | Standard for the Installation of Warm Air Heating and Air-Conditioning Systems | 1/5/2004
NFPA 160-2001 | Standard for Flame Effects Before an Audience | 1/5/2004
NFPA 170-2002 | Standard for Fire Safety Symbols | 1/5/2004
NFPA 230-2003 | Standard for the Fire Protection of Storage | 1/5/2004
NFPA 251-1999 | Standard Methods of Tests of Fire Endurance of Building Construction and Materials | 1/5/2004
NFPA 253-2000 | Standard Method of Test for Critical Radiant Flux of Floor Covering Systems Using a Radiant Heat Energy Source | 1/5/2004
NFPA 255-2000 | Standard Method of Test of Surface Burning Characteristics of Building Materials | 1/5/2004
NFPA 257-2000 | Standard on Fire Test for Window and Glass Block Assemblies | 1/5/2004
NFPA 269-2000 | Standard Test Method for Developing Toxic Potency Data for Use in Fire Hazard Modeling | 1/5/2004
NFPA 285-1998 | Standard Method of Test for the Evaluation of Flammability Characteristics of Exterior Non-Load-Bearing Wall Assemblies Containing Combustible Components Using the Intermediate-Scale, Multistory Test Apparatus | 1/5/2004
NFPA 286-2000 | Standard Methods of Fire Tests for Evaluating Contribution of Wall and Ceiling Interior Finish to Room Fire Growth | 1/5/2004
NFPA 291-2002 | Recommended Practice for Fire Flow Testing and Marking of Hydrants | 11/5/2004
NFPA 303-2000 | Fire Protection Standard for Marinas and Boatyards | 1/5/2004
NFPA 307-2000 | Standard for the Construction and Fire Protection of Marine Terminals, Piers, and Wharves | 1/5/2004
NFPA 312-2000 | Standard for Fire Protection of Vessels During Construction, Repair, and Lay-Up | 1/5/2004
NFPA 318-2002 | Standard for the Protection of Semiconductor Fabrication Facilities | 1/5/2004
NFPA 484-2002 | Standard for Combustible Metals, Metal Powders, and Metal Dusts | 1/5/2004
NFPA 495-2001 | Explosive Materials Code | 1/5/2004
NFPA 498-2001 | Standard for Safe Havens and Interchange Lots for Vehicles Transporting Explosives | 1/5/2004
NFPA 505-2002 | Fire Safety Standard for Powered Industrial Trucks Including Type Designations, Areas of Use, Conversions, Maintenance, and Operation | 1/5/2004
NFPA 654-2000 | Standard for the Prevention of Fire and Dust Explosions from the Manufacturing, Processing, and Handling of Combustible Particulate Solids | 1/5/2004
NFPA 730-P* | Guide for Electronic Premises Security | 1/5/2004
NFPA 731-P* | Standard for the Installation of Electronic Premises Security Systems | 1/5/2004
NFPA 750-2003 | Standard on Water Mist Fire Protection Systems | 6/25/2004
NFPA 1000-2000 | Standard for Fire Service Professional Qualifications Accreditation and Certification Systems | 1/5/2004
NFPA 1071-2000 | Standard for Emergency Vehicle Technician Professional Qualifications | 1/5/2004
NFPA 1123-2000 | Code for Fireworks Display | 1/5/2004
NFPA 1124-2003 | Code for the Manufacture, Transportation, Storage and Retail Sales of Fireworks and Pyrotechnic Articles | 1/5/2004
NFPA 1126-2001 | Standard for the Use of Pyrotechnics before a Proximate Audience | 1/5/2004
NFPA 1145-2000 | Guide for the Use of Class A Foams in Manual Structural Fire Fighting | 1/5/2004
NFPA 1221-2002 | Standard for the Installation, Maintenance, and Use of Emergency Services Communications Systems | 1/5/2004
NFPA 915-2000 | Standard for Fire Apparatus Preventative Maintenance Program | 1/5/2004
NFPA 1982-1998 | Standard on Personal Alert Safety Systems (PASS) | 6/25/2004
NFPA 1983-2001 | Standard on Fire Service Life Safety Rope and System Components | 1/9/2004
NFPA 2010-P* | Standard on Aerosol Fire Extinguishing Systems | 1/5/2004
P* Proposed NEW drafts are available from NFPA's Web site— www.nfpa.org or may be obtained from NFPA's Codes and Standards Administration, 1 Batterymarch Park, Quincy, Massachusetts 02169-7471.

Dated: November 5, 2003.
Arden L. Bement, Jr.,
Director.

[FR Doc. 03-28553 Filed 11-13-03; 8:45 am]

BILLING CODE 3510-13-P